DEPARTMENT OF ENERGY

Federal Energy Regulatory Commission

[Docket No. CP00-416-000]

Columbia Gas Transmission Corporation; Notice of Application

August 4, 2000.

Take notice that on July 26, 2000, Columbia Gas Transmission Corporation (Columbia), Post Office Box 10146, Fairfax, Virginia 22030-0146, filed in Docket No. CP00-416-000 an application pursuant to Section 7(b) of the Natural Gas Act for permission and approval to abandon certain pipeline facilities located in Ohio, all as more fully set forth in the application on file with the Commission and open to public inspection. This filing may be viewed on the web at http://www.ferc.fed.us/online/htm (call 202-208-2222 for assistance).

Columbia proposes to abandon the facilities by sale to Columbia Natural Resources, Inc. (CNR) and states that the facilities proposed for abandonment include Columbia's Line SR-545, which is a 20-inch pipeline beginning at a point near Columbia's Benton Compressor Station in Benton Township, Hocking County, Ohio and running approximately 16.3 miles in a northeasterly direction to its terminus at a point near Columbia's Crawford Compressor Station in the township of Berne, Fairfield County, Ohio. It is stated that the facilities have been used by Columbia primarily to transport volumes of gas from Columbia's Benton Storage Field to its Crawford Compressor Station where the volumes are compressed and transported to Columbia's mainline transmission system for system supply and redelivery to the Columbus, Ohio, market.

It is explained that operation of the system has changed so that the volumes previously compressed at Crawford are now compressed at Benton; therefore, Line SR-545 is no longer necessary to Columbia's current operations. It is asserted that the facilities will be sold for their depreciated book cost, estimated to be $290,390 as of December 31, 1999. Columbia states that the facilities are no longer an integral part of its transmission system and that the long-term needs of its customers will be best served through a divestiture of the non-core facilities.

Columbia also proposes to abandon service to mainline tap customers located along Line SR-545 and to terminate interruptible service agreements with CNR and Oxford Oil Company. It is asserted that CNR has agreed to continue providing service to those customers abandoned by Columbia, so that no customer would lose service as a result of the proposed abandonment. CNR has filed in Docket No. CP00-417-000 a request for declaratory order exempting the facilities from Commission jurisdiction.

Any questions regarding the application should be directed to Steven E. Hellman, Senior Attorney, at (703) 227-3467.

Any person desiring to be heard or to make any protest with reference to said application should on or before August 25, 2000, file with the Federal Energy Regulatory Commission, 888 First Street, N.E., Washington, D.C. 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make protestants parties to the proceedings. Any person wishing to become a party to a proceeding or to participate as a party in any hearing therein must file a motion to intervene in accordance with the Commission's Rules.

Take further notice that, pursuant to the authority contained in and subject to the jurisdiction conferred upon the Federal Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Columbia to appear or be represented at the hearing.

David P. Boergers,
Secretary.

[FR Doc. 00-20264 Filed 8-9-00; 8:45 am]

BILLING CODE 6717-01-M